DEPARTMENT OF LABOR

Office of the Secretary

Agency Information Collection Activities; Submission for OMB Review; Comment Request; Evaluation of the Unemployment Compensation Provisions of the American Recovery and Reinvestment Act of 2009

ACTION: Notice.

SUMMARY: The Department of Labor (DOL) is submitting, under the Departmental Management (DM) Account, the information collection request (ICR) proposal titled, “Evaluation of the Unemployment Compensation Provisions of the American Recovery and Reinvestment Act of 2009,” to the Office of Management and Budget (OMB) for review and approval for use in accordance with the Paperwork Reduction Act (PRA) of 1995 (44 U.S.C. 3501 et seq.).

DATES: Submit comments on or before May 14, 2012.

ADDRESSES: A copy of this ICR with applicable supporting documentation; including a description of the likely respondents, proposed frequency of response, and estimated total burden may be obtained from the RegInfo.gov Web site, http://www.reginfo.gov/public/do/PRAMain, on the day following publication of this notice or by contacting Michel Smyth by telephone at 202-693-4129 (this is not a toll-free number) or sending an email to DOL_PRA_PUBLIC@dol.gov.

Submit comments about this request to the Office of Information and Regulatory Affairs, Attn: OMB Desk Officer for DOL-DM, Office of Management and Budget, Room 10235, Washington, DC 20503, Telephone: 202-395-6929/Fax: 202-395-6881 (these are not toll-free numbers), email: OIRA_submission@omb.eop.gov.

FOR FURTHER INFORMATION CONTACT: Contact Michel Smyth by telephone at 202-693-4129 (this is not a toll-free number) or by email at DOL_PRA_PUBLIC@dol.gov.

SUPPLEMENTARY INFORMATION: This information collection is in support of an evaluation of the unemployment compensation (UC) provisions of the American Recovery and Reinvestment Act (ARRA) of 2009. The evaluation is designed to provide insights into five topics: (1) States' decisions to adopt certain UC-related reforms encouraged by the ARRA, (2) states' implementation experiences with these ARRA UC provisions, (3) the characteristics of recipients of different types of unemployment benefits during the time ARRA-related UC benefits were available, (4) the impact of ARRA UC provisions on recipients' outcomes, and (5) additional research questions about the influence of the UC provisions of the ARRA on macroeconomic issues and state unemployment insurance (UI) trust funds. This package requests clearance for three data collection efforts conducted as part of the evaluation: (1) Survey of UI Recipients, (2) Survey of UI Administrators, and (3) Site Visit Data Collection.

This information collection is subject to the PRA. A Federal agency generally cannot conduct or sponsor a collection of information, and the public is generally not required to respond to an information collection, unless it is approved by the OMB under the PRA and displays a currently valid OMB Control Number. In addition, notwithstanding any other provisions of law, no person shall generally be subject to penalty for failing to comply with a collection of information if the collection of information does not display a valid OMB Control Number. See 5 CFR 1320.5(a) and 1320.6. The DOL seeks OMB approval for this information collection under OMB ICR Reference Number 201110-1225-001. For additional information, see the related notice published in the Federal Register on December 12, 2011 (76 FR 77260).

Interested parties are encouraged to send comments to the OMB, Office of Information and Regulatory Affairs at the address shown in the ADDRESSES section within 30 days of publication of this notice in the Federal Register. In order to help ensure appropriate consideration, comments should reference OMB ICR Reference Number 121110-1225-001. The OMB is particularly interested in comments that:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: DOL-DM.

Title of Collection: Evaluation of the Unemployment Compensation Provisions of the American Recovery and Reinvestment Act of 2009.

OMB ICR Reference Number: 201110-1225-001.

Affected Public: Individuals or Households; Private Sector—For Profit Entities; State, Local, and Tribal Governments.

Total Estimated Number of Respondents: 2,491.

Total Estimated Number of Responses: 2,901.

Total Estimated Annual Burden Hours: 1,801.

Total Estimated Annual Other Costs Burden: $0.

Dated: April 4, 2012.
Michel Smyth,
Departmental Clearance Officer.

[FR Doc. 2012-8776 Filed 4-11-12; 8:45 am]

BILLING CODE 4510-22-P